DEPARTMENT OF STATE

[Public Notice: 12100]

Designation of Abdallah Makki Muslih al-Rufay'i and Abu Bakr ibn Muhammad ibn `Ali al-Mainuki as Specially Designated Global Terrorists

Acting under the authority of and in accordance with section 1(a)(ii)(B) of E.O. 13224, as amended (“E.O. 13224” or “Order”), I hereby determine that the persons known as: Abdallah Makki Muslih al-Rufay'i (also known as `Abdallah Makki Muslih Mahdi al-Rafi'i, Abu Khadijah, and Abu Musab) and Abu Bakr ibn Muhammad ibn `Ali al-Mainuki (also known as Abu-Bilal al-Minuki, Abubakar Mainok, and Abor Mainok) are leaders of ISIS, a group whose property and interests in property are currently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: June 6, 2023.
Antony J. Blinken,
Secretary of State.

[FR Doc. 2023-12870 Filed 6-15-23; 8:45 am]

BILLING CODE 4710-AD-P